DEPARTMENT OF HOUSING AND URBAN DEVELOPMENT

[Docket No. FR-5121-N-06]

Notice of Proposed Information Collection: Comment Request; Servicemembers Civil Relief Notice

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: April 3, 2007.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_L._Deitzer@hud.gov.

FOR FURTHER INFORMATION CONTACT: Laurie Maggiano, Office of Asset Management, 451 7th Street, SW., Washington, DC 20410, telephone (202) 402-1672 (this is not a toll free number) or via e-mail at Laurie_Maggiano@hud.gov for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Servicemembers Civil Relief Notice.

OMB Control Number, if applicable: 2502-0565.

Description of the need for the information and proposed use: The information collection is intended to provide a statement or notice to homeowners in default explaining the mortgage and foreclosure rights of servicemembers and their dependents under the Servicemembers Civil Relief Act (50 U.S.C. App. 501-596), including the toll-free military one source number to call if servicemembers, or their dependents, require further assistance. This notification is required under section 106(c)(5)(A)(ii) of the Housing and Urban Development Act (12 U.S.C. 1701x(c)(5)(A)(ii) as amended by Section 688 of the National Defense Authorization Act for fiscal year 2006 (Pub. L. 109-163, enacted January 06, 2006) and must be made within 45 days from the date the missed payment was due unless the homeowner pays the overdue amount before the expiration of the 45-day period. All mortgage loans, including conventional mortgages and mortgages insured by HUD are subject to this notification requirement.

OMB Control Number: 2502-0565.

Agency form numbers, if applicable: HUD-92070.

Estimation of the total numbers of hours needed to prepare the information collection including number of respondents, frequency of response, and hours of response: The estimated total number of burden hours needed to prepare the information collection is 533,744; the number of respondents is estimated to be 7,747 generating approximately 2,113,195 annual responses (form HUD-92070); the frequency of response is once per loan default; and the estimated time needed to prepare the response is 15 minutes.

Status of the proposed information collection: This is an extension of a currently approved information collection.

Authority: The Paperwork Reduction Act of 1995, 44 U.S.C., Chapter 35, as amended.

Dated: January 26, 2007.
Frank L. Davis,
General Deputy Assistant Secretary for Housing, Deputy Federal Housing Commissioner.

[FR Doc. E7-1678 Filed 2-1-07; 8:45 am]

BILLING CODE 4210-67-P